DEPARTMENT OF ENERGY

Federal Energy Regulatory Commission

Project Nos. 12688-000, 12689-000, 12690-000, 12691-000, 12692-000, and 12698-000

Public Utility District No. 1 of Snohomish County, WA; Notice Granting Late Intervention

November 16, 2006.

On June 22, 2006, in Project Nos. 12688, 12689, 12690, and 12692, and on July 3, 2006, in Project Nos. 12691 and 12698, the Commission issued notice of preliminary permit applications filed by Public Utility District No. 1 of Snohomish County, Washington.¹ The notices in Project Nos. 12688, 12689, 12690, and 12692 established August 21, 2006, as the deadline for filing motions to intervene. The notices in Project Nos. 12691 and 12698 established September 1, 2006, as the deadline for filing motions to intervene.

¹ The applications seek preliminary permits for: (1) The Rich Passage Tidal Energy Project No. 12688, to be located in Rich Passage in Puget Sound, Kitsap County, Washington; (2) the Spieden Channel Tidal Energy Project No. 12689, to be located in Spieden Channel in San Juan County, Washington; (3) the Admiralty Inlet Tidal Energy Project No. 12690, to be located in Admiralty Inlet in Jefferson, Kitsap, and Island Counties, Washington; (4) the Agate Passage Tidal Energy Project No. 12691, to be located in Agate Passage in Puget Sound in Kitsap County, Washington; (5) the San Juan Channel Tidal Energy Project No. 12692, to be located in San Juan Channel in San Juan County, Washington; and (6) the Guemes Channel Tidal Energy Project No. 12698, which would be located in Guemes Channel in San Juan County, Washington.

On September 14, 2006, the National Oceanic and Atmospheric Administration filed a late motion to intervene in all of the above-captioned projects. Granting the motion to intervene will not unduly delay or disrupt the proceedings, or prejudice other parties to them. Therefore, pursuant to Rule 214,² the motion to intervene filed by the National Oceanic and Atmospheric Administration is granted, subject to the Commission's rules and regulations.

² 18 CFR 385.214 (2006).

Magalie R. Salas,
Secretary.

[FR Doc. E6-19923 Filed 11-24-06; 8:45 am]

BILLING CODE 6717-01-P